DEPARTMENT OF THE INTERIOR

Fish and Wildlife Service

[FWS-HQ-MB-2019-N148; FF09M29000-190-FXMB1232090BPP0]

Migratory Birds; Double-Crested Cormorant Increased Take Limits for Depredation Permits in the Central and Eastern United States

AGENCY: Fish and Wildlife Service, Interior.

ACTION: Notice.

SUMMARY: In November 2017, the U.S. Fish and Wildlife Service, working in collaboration with the U.S. Department of Agriculture's Wildlife Services, completed an environmental assessment (EA) and finding of no significant impact for the issuance of depredation permits for double-crested cormorants. The scope of the EA covered issuance of depredation permits for the purposes of health and human safety, aquaculture, property damage, and concern for co-nesting threatened or endangered species. This notice is to inform the public that, based on an adaptive management approach, we have reviewed recent data and are moving from the preferred alternative to the proposed action of using a higher annual take threshold, as prescribed in the 2017 EA.

FOR FURTHER INFORMATION CONTACT: Jerome Ford, Assistant Director, Migratory Birds, U.S. Fish and Wildlife Service, at 202-208-1050.

SUPPLEMENTARY INFORMATION:

Background

The U.S. Fish and Wildlife Service (Service) is the Federal agency delegated the primary responsibility for managing migratory birds. Our authority derives from the Migratory Bird Treaty Act of 1918, as amended (MBTA or Act, 16 U.S.C. 703 et seq.), which implements conventions with Great Britain (for Canada), Mexico, Japan, and the Russia Federation. The MBTA protects certain migratory birds from take, except as permitted under the Act. We implement the provisions of the MBTA through regulations in parts 10, 13, 20, 21, and 22 of title 50 of the Code of Federal Regulations (CFR). Regulations pertaining to migratory bird permits are at 50 CFR part 21.

The double-crested cormorant (Phalacrocorax auritus) is a fish-eating migratory bird that is distributed across a large portion of North America. These birds are generalist predators whose diet varies considerably between seasons and locations and tends to reflect fish species composition.

Environmental Assessment

In 2017, we completed an environmental assessment (EA) on the issuance of depredation permits for double-crested cormorants across 37 central and eastern states and the District of Columbia (see 82 FR 52936; Nov. 15, 2017). The scope of the EA covered issuance of depredation permits for the purposes of protecting human safety and health, aquaculture, property, and co-nesting threatened or endangered species.

Our preferred alternative in 2017 allowed a take of 51,571 cormorants per year. This alternative limited take to amounts previously authorized in the period 2010-2015, well below the lower limit of the potential take limit (PTL) model conducted for the Environmental Assessment. This more conservative limit was taken in order to assess the continued need for individual permits and allow an adaptive approach if needed, while staying within the limits in the PTL model. In the EA, we noted that, by using an adaptive management approach, the Service may consider transitioning from the preferred alternative (reduced take alternative) to the less restrictive take authorized in the proposed action using the lower limit of the PTL. The PTL models estimated that the annual maximum allowable take of 74,396 cormorants per year would maintain the cormorant populations considered in the proposed action.

Current Situation and Response

In 2018, authorized take of cormorants was 51,154, and 10 permittees requested amendments to increase the authorized take of cormorants in their individual permits. In two cases, the amendments for increased take were requested multiple times. As of October 3, 2019, authorized take in 2019 was already 40,960 birds, and we have received 8 amendment requests. In one case, the amendment for an increase was requested a second time.

This notice is to inform the public that, based on an adaptive management approach and our review of the recent data just described, we are moving from the preferred alternative in the 2017 EA to the proposed action of using a higher annual take threshold.

To ensure that authorized take is not having a significant effect on cormorant populations, the Service will assess cormorant survey data and update the PTL at least every 10 years using data acquired from the Service Permits Information Tracking System. We will publish a notice in the Federal Register if we determine that the take of double-crested cormorants should be changed again in the future.

Dated: October 31, 2019.
Margaret E. Everson,
Principal Deputy Director, U.S. Fish and Wildlife Service, Exercising the Authority of the Director, U.S. Fish and Wildlife Service.

[FR Doc. 2019-27415 Filed 12-18-19; 8:45 am]

BILLING CODE 4333-15-P